ENVIRONMENTAL PROTECTION AGENCY

40 CFR Part 61

[LA-69-2-7617c; FRL-7887-2]

National Emission Standards for Hazardous Air Pollutants; Delegation of Authority to Louisiana; Correction

AGENCY: Environmental Protection Agency (EPA).

ACTION: Direct final rule; correcting amendment.

SUMMARY: EPA is correcting the delegation of standards for national emission standards for hazardous air pollutants which EPA approved as part of the delegation of authority to Louisiana on March 26, 2004. This document corrects an error in the final rule pertaining to the EPA's delegation of national emission standards for hazardous air pollutants for asbestos to Louisiana.

DATES: This amendment is effective on March 21, 2005.

FOR FURTHER INFORMATION CONTACT: Jeff Robinson, (214) 665-6435 or by e-mail at Robinson.Jeffrey@epa.gov.

SUPPLEMENTARY INFORMATION: Throughout this document wherever “we,” or “our” are used we mean EPA. On March 26, 2004, (69 FR 15687), we published a final rulemaking action announcing the delegation of authority of certain NESHAPs to the Louisiana Department of Environmental Quality. EPA received no public comments on the direct final rule, therefore, the effective date of action was April 26, 2004. Subsequently, the Louisiana Department of Environmental Quality notified EPA that we had not included the delegation of subpart M—Asbestos in the chart detailing the current part 61 standards delegated to Louisiana. The original part 61 delegation to Louisiana occurred on October 14, 1983, with formal notification in the Federal Register on February 7, 1984 (49 FR 4471). In the notification, Louisiana was authorized to assume NESHAP partial delegation responsibilities for future standards and requirements. This administrative rulemaking action reflects EPA's delegation of subpart M—Asbestos to Louisiana. Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting a historical delegation that occurred in a previous action. Thus, notice and public procedure are unnecessary. We find that this constitutes good cause under 5 U.S.C. 553(b)(B). Statutory and Executive Order Reviews Under Executive Order 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the Supplementary Information section above, it is not subject to the regulatory flexibility provisions of the Regulatory Flexibility Act (5 U.S.C 601 et seq.), or to sections 202 and 205 of the Unfunded Mandates Reform Act of 1995 (UMRA) (Public Law 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (59 FR 22951, November 9, 2000), nor will it have substantial direct effects on the States, on the relationship between the National Government and the States, or on the distribution of power and responsibilities among the various levels of governments, as specified by Executive Order 13132 (64 FR 43255, August 10, 1999). This rule also is not subject to Executive Order 13045 (62 FR 19885, April 23, 1997), because it is not economically significant. This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of March 21, 2005. EPA will submit a report containing this rule and other required information to the U.S. Senate, the U.S. House of Representatives, and the Comptroller General of the United States prior to publication of the rule in the Federal Register. This correction to 40 CFR 61.04(c)(6)(ii) for Louisiana is not a “major rule” as defined by 5 U.S.C. 804(2).

List of Subjects in 40 CFR Part 61

Environmental protection, Air pollution control, Arsenic, Asbestos, Benzene, Beryllium, Hazardous substances, Mercury, Radon, Reporting and recordkeeping requirements, Uranium, Vinyl chloride.

Dated: March 11, 2005.
Richard E. Greene,
Regional Administrator, Region 6.

40 CFR part 61 is amended as follows:

PART 61—[AMENDED]

1. The authority citation for part 61 continues to read as follows:

Authority: 42 U.S.C. 7401 et seq.

2. Section 61.04 is amended by revising paragraph (c)(6)(ii) to read as follows:

§ 61.04 Address.

* * * * *

(c) * * *

(6) * * *

(ii) Louisiana. The Louisiana Department of Environmental Quality (LDEQ) has been delegated the following Part 61 standards promulgated by EPA, as amended in the Federal Register through July 1, 2002. The (X) symbol is used to indicate each subpart that has been delegated.

Delegation Status for Part 61 Standa rds—State of Louisiana ¹
Subpart | LDEQ ²
A General Provisions | X
C Beryllium | X
D Beryllium Rocket Motor Firing | X
E Mercury | X
J Equipment Leaks of Benzene | X
L Benzene Emissions from Coke By-Product Recovery Plants | X
M Asbestos | X
N Inorganic Arsenic Emissions from Glass Manufacturing Plants | X
O Inorganic Arsenic Emissions from Primary Copper Smelters | X
P Inorganic Arsenic Emissions from Arsenic Trioxide and Metallic Arsenic Production Facilities | X
V Equipment Leaks | X
Y Benzene Emissions from Benzene Storage Vessels | X
BB Benzene Emissions from Benzene Transfer Operations | X
FF Benzene Emissions from Benzene Waste Operations | X
¹ Program delegated to Louisiana Department of Environmental Quality (LDEQ).
² Authorities which may not be delegated include: § 61.04(b), Addresses of State and Local Implementing Agencies; § 61.12(d)(1), Compliance with Standards and Maintenance Requirements, Alternate Means of Emission Limitation; § 61.13(h), Major Change to an Emissions Test; § 61.14(g), Major Modifications to Monitoring Requirements; § 61.16, Availability of Information Procedures; § 61.53(c)(4), List of Approved Design, Maintenance, and Housekeeping Practices for Mercury Chlor-Alkali Plants; and all authorities identified within specific subparts (e.g., under “Delegation of Authority”) that cannot be delegated.

* * * * *

[FR Doc. 05-5518 Filed 3-18-05; 8:45 am]

BILLING CODE 6560-50-P